NUCLEAR REGULATORY COMMISSION

[Docket No. 50-83; NRC-2008-0295]

University of Florida, Training Reactor

AGENCY: Nuclear Regulatory Commission.

ACTION: License renewal; issuance.

SUMMARY: The U.S. Nuclear Regulatory Commission (NRC) issued a renewal of Facility Operating License No. R-56, held by the University of Florida (UF or the licensee) for the continued operation of its University of Florida Training Reactor (UFTR or the reactor) for an additional 20 years from the date of issuance.

DATES: The renewed facility operating license No. R-56 is effective on March 31, 2017.

ADDRESSES: Please refer to Docket ID NRC-2008-0295 when contacting the NRC about the availability of information regarding this document. You may obtain publicly-available information related to this document using any of the following methods:

• Federal Rulemaking Web site: Go to http://www.regulations.gov and search for Docket ID NRC-2008-0295. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Duane A. Hardesty, Office of Nuclear Reactor Regulation, U.S. Nuclear Regulatory Commission, Washington, DC 20555-0001; telephone: 301-415-3724; email: Duane.Hardesty@nrc.gov.

SUPPLEMENTARY INFORMATION:

I. Discussion

The NRC has issued renewed Facility Operating License No. R-56, held by the licensee, which authorizes continued operation of the UFTR, located in Gainesville, Alachua County, Florida. The UFTR is an Argonaut-type graphite-moderated and reflected light water cooled research reactor licensed to operate at a steady-state power level of 100 kilowatts thermal power. The renewed Facility Operating License No. R-56 will expire 20 years from its date of issuance.

The renewed facility operating license complies with the standards and requirements of the Atomic Energy Act of 1954, as amended (the Act), and the Commission's rules and regulations. The Commission has made appropriate findings as required by the Act and the Commission's regulations in chapter I, of title 10 of the Code of Federal Regulations, and sets forth those findings in the renewed facility operating license. The agency afforded an opportunity for hearing in the Notice of Opportunity for Hearing published in the Federal Register on May 27, 2008 (73 FR 30424). The NRC did not receive a request for a hearing or for a petition for leave to intervene following the notice.

The NRC prepared a safety evaluation report (SER) for the renewal of Facility Operating License No. R-56 and concluded, based on that evaluation, that the licensee can continue to operate the facility without endangering the health and safety of the public. The NRC also prepared an environmental assessment and finding of no significant impact for the renewal of the facility operating license, noticed in the Federal Register on September 8, 2010 (75 FR 54657), and concluded that renewal of the facility operating license will not have a significant impact on the quality of the human environment.

II. Availability of Documents

The documents identified in the following table are available to interested persons through ADAMS accession numbers, as indicated.

Document | ADAMS accession No.
University of Florida Training Reactor—UFTR Renewal SER | ML102290213
University of Florida Training Reactor—License Application, July 18, 2002 | ML022130145
University of Florida Training Reactor—Relicensing Application Submittal Package with Supporting Documents, July 29, 2002 | ML022130140
University of Florida Safety Analysis Report Supporting License Renewal, July 31, 2002 (redacted version) | ML081340724
University of Florida Test Reactor Safety Analysis Report Change Pages for License Renewal Application, February 25, 2003 (redacted version) | ML102240048
Startup Report Based On Issuance Of Order Modifying License No. R-56 to Convert from High-To-Low—Enriched Uranium Fuel (Amendment No. 26)—University of Florida Training Reactor, April 6, 2009 | ML090990541
Updated License Renewal Application for Conversion from HEU to LEU Fuel—Safety Analysis Report, And Technical Specifications, September 29, 2009 (redacted version) | ML093620300
University of Florida Training Reactor (UFTR) License Renewal—Responses to the USNRC's RAIs , February 26, 2010 | ML100610445
University of Florida, Submittal of Revised Chapter 5 of FSAR in Support of Application for License Renewal, March 26, 2010 | ML100880334
University of Florida Training Reactor (UFTR) License Renewal—Revised Statement of Intent on Decommissioning Funding Assurance, May 3, 2010 | ML101250177
FRN: General Notice. University of Florida, Docket No. 50-083, University of Florida Training Reactor Environmental Assessment and Finding of No. Significant Impact, August 30, 2010 | ML101790239
University of Florida Operator Requalification and Recertification Training Program Plan, August 4, 2011 | ML11229A706
UFTR Responses to Request for Additional Information, December 21, 2012 | ML12361A262
University of Florida, Response to Request for Additional Information (Technical Specifications, Emergency Plan, ALARA plan, and Chapters 4 and 13 of the FSAR), August 30, 2013 (redacted version) | ML16271A533
UFTR Responses to Request for Additional Information, Chapters 2 and 7 of the FSAR, December 12, 2013 | ML13353A174
UFTR Responses to Request for Additional Information; Chapters 1, 3, 5, 6, 8 and 11 of the FSAR, February 18, 2014 | ML14070A061
UFTR Responses to Request for Additional Information; Chapters 9, 10, 12, and 16 of the updated Safety Analysis Report (SAR), April 9, 2014 (redacted version) | ML16271A541
University of Florida, Emergency Plan—Extracted from ML13252A141, August 30, 2014 | ML16200A378
University of Florida—Responses to Request for Additional Information Regarding Financial Information, September 4, 2014 | ML14255A368
UFTR Supplemental Response to Request for Additional Information, updated financial information, March 25, 2015 | ML15112A817
E-mail, D. Cronin (UFTR) to D. Hardesty (NRC), on Pu_Be source, October 3, 2016 | ML16278A737
University of Florida Response to RAIs (ML15336A796 & ML15336A005) & Updated TS, October 31, 2016 | ML16305A354
E-mail D. Cronin, UFTR to D. Hardesty, NRC; UFTR_30-day ORIGEN Files—basis for response to technical RAI No. 7.a.v (for the 30-day calculations) November 7, 2016 | ML16312A224
University of Florida—Responses to Request for Additional Information, Updated FSAR and Technical Specifications, November 30, 2016 (redacted version) | ML17054C281
University of Florida Training Reactor—UFTR Supplemental Information to Support License Renewal Application—Cover Letter, Technical Specifications, and SAR, Redacted version, dated March 6, 2017 | ML17065A267
University of Florida Training Reactor—83-UFTR LRA Supplement Cover Letter, TSs, and SAR Ch. 4_Redacted version, March 24, 2017 | ML17084A000
University of Florida Regarding Issuance of Renewed Facility Operating License No. R-56 for The University of Florida Training Reactor (TAC No. ME1586) March 31, 2017 | ML102500048

Dated at Rockville, Maryland, this 31st day of March 2017.
For the Nuclear Regulatory Commission.
Alexander Adams, Jr.,
Chief, Research and Test Reactors Licensing Branch, Division of Policy and Rulemaking, Office of Nuclear Reactor Regulation.

[FR Doc. 2017-06871 Filed 4-5-17; 8:45 am]

BILLING CODE 7590-01-P